DEPARTMENT OF ENERGY

Federal Energy Regulatory Commission

[Project Nos. 2576 and 2597]

Connecticut Light and Power Company; Notice of Public Information Meetings on the Housatonic Projects 2576 and 2597

May 3, 2000.

A significant number of hydroelectric licenses will expire between now and 2010. Among these are the Connecticut Light and Power Company's (CL&P) licenses for the Falls Village Project (Project No. 2597) and the Housatonic Project (Project No. 2576). Both of these projects are located on the Housatonic River, in the western portion of Connecticut in Fairfield, New Haven, and Litchfield Counties.

In its application for a new license, filed with the Federal Energy Regulatory Commission (Commission) on August 31, 1999, CL&P proposes to combine both projects under a single license for the Housatonic River Project (Project No. 2576). The existing licenses for the Falls Village Project and the Housatonic Project expire in August and September (respectively) of 2001.

Members of the public living in Western Connecticut have demonstrated significant interest in the Commission's licensing process as it pertains to this project, and Commission staff have received numerous requests for information about how members of the public might participate.

Consequently, Commission staff will hold two early evening public information meetings at New Milford and Falls Village, Connecticut, to familiarize the public with the Commission's hydropower licensing program.

Commission staff will present a brief overview of the Commission and its responsibilities, the status of this pending license application, a general description of the procedures Commission staff will use for the remainder of this license proceeding, and instructions on how members of the public may participate in this license proceeding.

While there will be an opportunity for questions and answers about Commission staff's presentation, all discussion of the merits of the pending application is strongly discouraged. At these meetings, Commission staff will entertain no questions pertaining to the merits of the pending application.

Interested persons are invited to attend either or both meetings scheduled as follows:

Tuesday, May 23, 2000, 7 to 9 p.m., New Milford High School Auditorium, 25 Sunny Valley Road, New Milford, CT 06776

Wednesday, May 24, 2000, 7 to 9 p.m., Housatonic Valley Regional High School Lecture Hall, 246 Warren Turnpike Road, Falls Village, CT 06031

Please direct any questions regarding these meetings to (1) James T. Griffin, via telephone, (202) 219-2799, email james.griffin@ferc.fed.us, or by letter to the Federal Energy Regulatory Commission, 888 First Street, NE, Washington, DC 20426; or (2) John Whitefield via telephone (860) 665-3769, email whitjr@NU.COM, or by letter to the Connecticut Light & Power Company, P.O. Box 270, Hartford, CT 06141, or (3) both of these gentlemen.

David P. Boergers,
Secretary.

[FR Doc. 00-11488 Filed 5-8-00; 8:45 am]

BILLING CODE 6717-01-M